DEPARTMENT OF ENERGY

Orders Granting Authority To Import and Export Natural Gas, To Import and Export Liquefied Natural Gas, and Errata During February 2017

| FE Docket Nos.
DRIFTWOOD LNG LLC | 16-144-LNG
STEPPE PETROLEUM USA INC | 17-06-NG
CFE INTERNATIONAL LLC | 17-07-NG
CITIGROUP ENERGY CANADA, ULC | 17-11-NG
JUST ENERGY NEW YORK CORP | 17-12-NG
CRYOPEAK LNG SOLUTIONS CORPORATION | 17-17-LNG
CENTRA GAS MANITOBA INC | 17-09-NG
FREEPOINT COMMODITIES LLC | 17-18-NG
ALPHA GAS & ELECTRIC, LLC | 17-03-NG
REPSOL OIL & GAS USA, LLC | 17-01-NG
GAZPROM MARKETING & TRADING USA, INC | 17-02-NG
CARGILL INCORPORATED | 17-08-NG
HUDSON ENERGY SERVICES, LLC | 17-14-NG
ARIZONA PUBLIC SERVICE COMPANY | 16-189-NG
DYNEGY MARKETING AND TRADE, LLC | 17-05-NG
JUST ENERGY ONTARIO L.P | 17-13-NG
ENGIE GAS & LNG LLC | 17-10-LNG
REPSOL OIL & GAS USA, LLC | 17-01-NG

AGENCY: Office of Fossil Energy, Department of Energy.

ACTION: Notice of orders.

SUMMARY: The Office of Fossil Energy (FE) of the Department of Energy gives notice that during February 2017, it issued orders granting authority to import and export natural gas, to import and export liquefied natural gas (LNG), and Errata. These orders are summarized in the attached appendix and may be found on the FE Web site at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on April 6, 2017.
John A. Anderson,
Director, Office of Regulation and International Engagement, Office of Oil and Natural Gas.

APPENDIX

DOE/FE Orders Granting Import/Export Authorizations
3968 | 02/28/17 | 16-144-LNG | Driftwood LNG LLC | Order 3968 granting Long-term, Multi-contract authority to export LNG by vessel from the proposed Driftwood LNG Facility in Calcasieu Parish, Louisiana, to Free Trade Agreement Nations.
3979 | 02/10/17 | 17-06-NG | Steppe Petroleum USA Inc | Order 3979 granting blanket authority to import natural gas from Canada.
3980 | 02/10/17 | 17-07-NG | CFE International LLC | Order 3980 granting blanket authority to import/export natural gas from/to Mexico.
3981 | 02/10/17 | 17-11-NG | Citigroup Energy Canada, ULC | Order 3981 granting blanket authority to import/export natural gas from/to Canada.
3982 | 02/10/17 | 17-12-NG | Just Energy New York Corp | Order 3982 granting blanket authority to import/export natural gas from/to Canada.
3983 | 02/10/17 | 17-17-LNG | Cryopeak LNG Solutions Corporation | Order 3983 granting blanket authority to import/export LNG from/to Canada by truck.
3984 | 02/10/17 | 17-09-NG | Centra Gas Manitoba Inc | Order 3984 granting blanket authority to import/export natural gas from/to Canada.
3985 | 02/10/17 | 17-18-NG | Freepoint Commodities LLC | Order 3985 granting blanket authority to import/export natural gas from/to Canada/Mexico.
3986 | 02/10/17 | 17-03-NG | Alpha Gas & Electric, LLC | Order 3986 granting blanket authority to import/export natural gas from/to Canada.
3987 | 02/10/17 | 17-01-NG | Repsol Oil & Gas USA, LLC | Order 3987 granting blanket authority to import/export natural gas from/to Canada.
3988 | 02/10/17 | 17-02-NG | Gazprom Marketing & Trading USA, Inc | Order 3988 granting blanket authority to import/export natural gas from/to Canada/Mexico.
3989 | 02/10/17 | 17-08-NG | Cargill Incorporated | Order 3989 granting blanket authority to import/export natural gas from/to Canada/Mexico, and to import LNG from various international sources by vessel.
3990 | 02/10/17 | 17-14-NG | Hudson Energy Services, LLC | Order 3990 granting blanket authority to import/export natural gas from/to Canada.
3991 | 02/13/17 | 16-189-NG | Arizona Public Service Company | Order 3991 granting blanket authority to import/export natural gas from/to Mexico.
3992 | 02/13/17 | 17-05-NG | Dynegy Marketing and Trade, LLC | Order 3992 granting blanket authority to import/export natural gas from/to Canada.
3993 | 02/13/17 | 17-13-NG | Just Energy Ontario L.P | Order 3993 granting blanket authority to import/export natural gas from/to Canada.
3994 | 02/14/17 | 17-10-LNG | ENGIE Gas & LNG LLC | Order 3994 granting blanket authority to import LNG from various international sources by vessel.
Errata 3987 | 02/14/17 | 17-01-NG | Repsol Oil & Gas USA, LLC | Order 3987 Errata Notice.

[FR Doc. 2017-07339 Filed 4-11-17; 8:45 am]

BILLING CODE 6450-01-P